DEPARTMENT OF TRANSPORTATION

Federal Aviation Administration

14 CFR Part 39

[Docket No. FAA-2005-21590; Directorate Identifier 2005-CE-33-AD; Amendment 39-14199; AD 2005-15-10]

RIN 2120-AA64

Airworthiness Directives; The New Piper Aircraft, Inc. Models PA-34-200T, PA-34-220T, PA-44-180, and PA-44-180T Airplanes

AGENCY: Federal Aviation Administration (FAA), DOT.

ACTION: Final rule; request for comments.

SUMMARY: The FAA adopts an airworthiness directive (AD) to supersede AD 2003-11-14, which applies to certain The New Piper Aircraft, Inc. (Piper) Models PA-34-200T, PA-34-220T, PA-44-180, and PA-44-180T airplanes that have a model 91E92-1 or model 91E93-1 combustion heater fuel pump installed. AD 2003-11-14 currently requires you to do a one-time inspection of the combustion heater fuel pumps for fuel leakage. If leakage is found, repair or replace the fuel pump. This AD retains all the actions of AD 2003-11-14 and includes additional serial numbers for the Models PA-34-220T and PA-44-180 airplanes in the applicability section. This AD results from an investigation that concluded that after the issuance of AD 2003-11-14, additional fuel pumps that did not meet the quality control (inspection or design) requirements of the AD had been installed in Models PA-34-220T and PA-44-180 airplanes. We are issuing this AD to correct quality control problems with the heater fuel pump, which could result in failure of the heater fuel pump. Such failure could lead to fire or explosion in the cockpit.

DATES: This AD becomes effective on August 26, 2005.

On June 20, 2003 (68 FR 33356, June 4, 2003), the Director of the Federal Register approved the incorporation by reference of The New Piper Aircraft, Inc. Service Bulletin No. 1127, dated February 26, 2003, and Kelly Aerospace Power Systems Service Information Letter Bulletin No. A-110A, dated March 6, 2003.

As of August 26, 2005, the Director of the Federal Register approved the incorporation by reference of the following:

—The New Piper Aircraft, Inc. Service Bulletin No. 1127B, dated April 18, 2005; and

—Kelly Aerospace Power Systems Service Information Letter Bulletin No. A-110B, dated December 20, 2004.

We must receive any comments on this AD by September 26, 2005.

ADDRESSES: Use one of the following to submit comments on this AD:

• DOT Docket Web Site: Go to http://dms.dot.gov and follow the instructions for sending your comments electronically.

• Government-wide Rulemaking Web Site: Go to http://www.regulations.gov and follow the instructions for sending your comments electronically.

• Mail: Docket Management Facility; U.S. Department of Transportation, 400 Seventh Street, SW., Nassif Building, Room PL-401, Washington, DC 20590-001.

• Fax: 1-202-493-2251.

• Hand Delivery: Room PL-401 on the plaza level of the Nassif Building, 400 Seventh Street, SW., Washington, DC, between 9 a.m. and 5 p.m., Monday through Friday, except Federal holidays.

To get the service information identified in this AD, contact The New Piper Aircraft, Inc., Customer Services, 2926 Piper Drive, Vero Beach, Florida 32960; telephone: (772) 567-4361; facsimile: (772) 978-6584.

To view the comments to this AD, go to http://dms.dot.gov. The docket number is FAA-2005-21590; Directorate Identifier 2005-CE-33-AD.

FOR FURTHER INFORMATION CONTACT: Hector Hernandez, Aerospace Engineer, FAA, Atlanta Aircraft Certification Office, One Crown Center, 1895 Phoenix Boulevard, Suite 450, Atlanta, Georgia 30349; telephone: (770) 703-6069; facsimile: (770) 703-6097.

SUPPLEMENTARY INFORMATION: What events have caused this AD? Several reports of fuel leakage (resulting from a quality control problem) from the combustion heater fuel pumps installed on Piper Models PA-34-200T, PA-34-220T, PA-44-180, and PA-44-180T airplanes caused us to issue AD 2003-11-14, Amendment 39-13173 (68 FR 33356, June 4, 2003). AD 2003-11-14 currently requires you to do a one-time (quality control) inspection of the combustion heater fuel pumps for fuel leakage. If leakage is found, repair or replace the fuel pump.

Since AD 2003-11-14 was issued, there has been an investigation of two reports of fuel leakage from the combustion heater fuel pumps in December 2004. These two reports of fuel leakage were similar to those that led to the issuance of AD 2003-11-14. Improper torque was applied to the mounting screws of the fuel pump filter cover and resulted in sealing surface abnormalities such as nicks, gouges, or warping. This condition is a result of a quality control problem.

The findings of the investigation concluded that after issuance of AD 2003-11-14 additional fuel pumps that did not meet the quality control (inspection or design) requirements of the AD have been installed in Piper Models PA-34-220T and PA-44-180 airplanes. Other fuel pumps that do not meet the quality control (inspection or design) requirements may be held as spares.

What is the potential impact if FAA took no action? Quality control problems with the heater fuel pump could result in failure of the heater fuel pump. Such failure could lead to fire or explosion in the cockpit.

Is there service information that applies to this subject? Piper has issued:

—Service Bulletin No. 1127, dated February 26, 2003. This Piper service bulletin includes Kelly Aerospace Service Information Letter Bulletin No. A-110A, dated March 6, 2003; and

—Service Bulletin No. 1127B, dated April 18, 2005. This Piper service bulletin includes Kelly Aerospace Service Information Letter Bulletin No. A-110B, dated December 20, 2004

What are the provisions of this service information? These service bulletins include procedures for:

—Inspecting the combustion heater fuel pump for leaks; and

—Inspecting the sealing surface of the fuel pump.

FAA's Determination and Requirements of the AD

What has FAA decided? We have evaluated all pertinent information and identified an unsafe condition that is likely to exist or develop on other products of this same type design.

Since the unsafe condition described previously is likely to exist or develop on other Piper Models PA-34-200T, PA-34-220T, PA-44-180, and PA-44-180T airplanes of the same type design, we are issuing this AD to correct quality control problems with the heater fuel pump, which could result in failure of the heater fuel pump. Such failure could lead to fire or explosion in the cockpit.

What does this AD require? This AD requires you to incorporate the actions in the previously-referenced service bulletins.

In preparing this rule, we contacted type clubs and aircraft operators to get technical information and information on operational and economic impacts. We did not receive any information through these contacts. If received, we would have included a discussion of any information that may have influenced this action in the rulemaking docket.

How does the revision to 14 CFR part 39 affect this AD? On July 10, 2002, we published a new version of 14 CFR part 39 (67 FR 47997, July 22, 2002), which governs FAA's AD system. This regulation now includes material that relates to altered products, special flight permits, and alternative methods of compliance. This material previously was included in each individual AD. Since this material is included in 14 CFR part 39, we will not include it in future AD actions.

Comments Invited

Will I have the opportunity to comment before you issue the rule? This AD is a final rule that involves requirements affecting flight safety and was not preceded by notice and an opportunity for public comment; however, we invite you to submit any written relevant data, views, or arguments regarding this AD. Send your comments to an address listed under ADDRESSES. Include “Docket No. FAA-2005-21590; Directorate Identifier 2005-CE-33-AD” in the subject line of your comments. If you want us to acknowledge receipt of your mailed comments, send us a self-addressed, stamped postcard with the docket number written on it; we will date-stamp your postcard and mail it back to you. We specifically invite comments on the overall regulatory, economic, environmental, and energy aspects of the rule that might suggest a need to modify it. If a person contacts us through a nonwritten communication, and that contact relates to a substantive part of this AD, we will summarize the contact and place the summary in the docket. We will consider all comments received by the closing date and may amend the AD in light of those comments.

Authority for This Rulemaking

What authority does FAA have for issuing this rulemaking action? Title 49 of the United States Code specifies the FAA's authority to issue rules on aviation safety. Subtitle I, section 106 describes the authority of the FAA Administrator. Subtitle VII, Aviation Programs, describes in more detail the scope of the agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

Will this AD impact various entities? We have determined that this AD will not have federalism implications under Executive Order 13132. This AD will not have a substantial direct effect on the States, on the relationship between the national government and the States, or on the distribution of power and responsibilities among the various levels of government.

Will this AD involve a significant rule or regulatory action? For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD (and other information as included in the Regulatory Evaluation) and placed it in the AD Docket. You may get a copy of this summary by sending a request to us at the address listed under ADDRESSES. Include “AD Docket FAA-2005-21590; Directorate Identifier 2005-CE-33-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2003-11-14, Amendment 39-13173 (68 FR 33356, June 4, 2003), and by adding a new AD to read as follows:

2005-15-10 The New Piper Aircraft, Inc.: Amendment 39-14199; Docket No. FAA-2005-21590; Directorate Identifier 2005-CE-33-AD.

When Does This AD Become Effective?

(a) This AD becomes effective on August 26, 2005.

Are Any Other ADs Affected By This Action?

(b) This AD supersedes AD 2003-11-14, Amendment 39-13173.

What Airplanes Are Affected by This AD?

(c) This AD applies to the following airplane models and serial numbers that are certificated in any category, equipped with a model 91E92-1 or model 91E93-1 aircraft heater fuel pump:

(1) Group 1: The New Piper Aircraft, Inc. airplanes retained from AD 2003-11-14:

Model | Serial Nos.
PA-34-200T | 34-7570002 through 34-8170092.
PA-34-220T | 34-8133002 through 3449278.
PA-44-180 | 44-7995001 through 4496168.
PA-44-180T | 44-8107001 through 44-8207020.

(2) Group 2: The New Piper Aircraft, Inc. airplanes (not included in AD 2003-11-14) added to the applicability of this AD:

Model | Serial Nos.
PA-34-220T | 3449279 through 3449309.
PA-44-180 | 4496169 through 4496190.

What Is the Unsafe Condition Presented in This AD?

(d) This AD is the result of an investigation that concluded that after issuance of AD 2003-11-14, additional fuel pumps that did not meet the quality control (inspection or design) requirements of the AD were installed in Models PA-34-220T and PA-44-180 airplanes. We are issuing this AD to correct quality control problems with the heater fuel pump, which could result in failure of the heater fuel pump. Such failure could lead to fire or explosion in the cockpit.

What Must I Do To Address This Problem?

(e) What actions must I do to address this problem for Group 1 airplanes? To address this problem for Group 1 airplanes, you must do the following:

Actions | Compliance | Procedures
(1) Visually inspect any installed aircraft heater fuel pump (model 91E92-1 or model 91E93-1 for leakage | Within the next 10 hours time-in-service (TIS), after June 20, 2003 (the effective date of AD 2003-11-14), unless already done | Follow The New Piper Aircraft, Inc. Service Bulletin No. 1127, dated February 26, 2003, and Kelly Aerospace Power Systems Service Information Letter Bulletin No. A-110A, dated March 6, 2003.
(2) If any leak is found, inspect the pump sealing surface for abnormalities (for example, nicks, gouges, or warping). Correct any abnormality found. If any abnormality cannot be corrected, replace the header fuel pump | Before further flight after the inspection required in paragraph (e)(1) of this AD | Follow The New Piper Aircraft, Inc. Service Bulletin No. 1127, dated February 26, 2003, and Kelly Aerospace Power Systems Service Information Letter Bulletin No. A-110A, dated March 6, 2003.
(3) Do not install any heater fuel pump (model 91E92-1 or model 91E93-1) unless you have visually inspected the pump for leakage and corrected any abnormalities specified in paragraph (e)(2) of the AD | As of June 20, 2003 (the effective date of AD 2003-11-14) | Follow The New Piper Aircraft, Inc. Service Bulletin No. 1127, dated February 26, 2003, and Kelly Aerospace Power Systems Service Information Letter Bulletin No. A-110A, dated March 6, 2003.

(f) What actions must I do to address this problem for Group 2 airplanes? To address this problem for Group 2 airplanes, you must do the following:

Actions | Compliance | Procedures
(1) Visually inspect any installed aircraft heater fuel pump (model 91E92-1 or model 91E93-1) for leakage | Within the next 10 hours time-in-service (TIS), after August 26, 2005 (the effective date of this AD), unless already done | Follow The New Piper Aircraft, Inc. Service Bulletin No. 1127B, dated April 18, 2005, and Kelly Aerospace Power Systems Service Information Letter Bulletin No. A-110B, dated December 20, 2004.
(2) If any leak is found, inspect the pump sealing surface for abnormalities (for example, nicks, gouges, or warping). Correct any abnormality found. If any abnormality cannot be corrected, replace the heater fuel pump | Before further flight after the inspection required in paragraph (f)(1) of this AD | Follow The New Piper Aircraft, Inc. Service Bulletin No. 1127B, dated April 18, 2005, and Kelly Aerospace Power Systems Service Information Letter Bulletin No. A-110B, dated December 20, 2004.
(3) Do not install any heater fuel pump (model 91E92-1 or model 91E93-1) unless you have visually inspected the pump for leakage and corrected any abnormalities specified in paragraph (f)(2) of this AD | As of August 26, 2005 (the effective date of this AD) | Follow The New Piper Aircraft, Inc. Service Bulletin No. 1127B, dated April 18, 2005, and Kelly Aerospace Power Systems Service Information Letter Bulletin No. A-110B, dated December 20, 2004.

May I Request an Alternative Method of Compliance?

(g) You may request a different method of compliance or a different compliance time for this AD by following the procedures in 14 CFR 39.19. Unless FAA authorizes otherwise, send your request to your principal inspector. The principal inspector may add comments and will send your request to the Manager, Atlanta Aircraft Certification Office (ACO). For information on any already approved alternative methods of compliance, contact Hector Hernandez, Aerospace Engineer, FAA, Atlanta Aircraft Certification Office, One Crown Center, 1895 Phoenix Boulevard, Suite 450, Atlanta, Georgia 30349; telephone: (770) 703-6069; facsimile: (770) 703-6097.

Does This AD Incorporate Any Material by Reference?

(h) You must do the actions required by this AD following the instructions in The New Piper Aircraft, Inc. Service Bulletin No. 1127, dated February 26, 2003; The New Piper Aircraft, Inc. Service Bulletin No. 1127B, dated April 18, 2005; Kelly Aerospace Power Systems Service Information Letter Bulletin No. A-110A, dated March 6, 2003; and Kelly Aerospace Power Systems Service Information Letter Bulletin No. A-110B, dated December 20, 2004.

(1) On June 20, 2003 (68 FR 33356, June 4, 2003), and in accordance with 5 U.S.C. 552(a) and 1 CFR part 51, the Director of the Federal Register approved the incorporation by reference of The New Piper Aircraft, Inc. Service Bulletin No. 1127, dated February 26, 2003, and Kelly Aerospace Power Systems Service Information Letter Bulletin No. A-110A, dated March 6, 2003.

(2) As of August 26, 2005, and in accordance with 5 U.S.C. 552(a) and 1 CFR part 51, the Director of the Federal Register approved the incorporation by reference of The New Piper Aircraft, Inc. Service Bulletin No. 1127B, dated April 18, 2005, and Kelly Aerospace Power Systems Service Information Letter Bulletin No. A-110B, dated December 20, 2004.

(3) To get a copy of this service information, contact The New Piper Aircraft, Inc., Customer Services, 2926 Piper Drive, Vero Beach, Florida 32960; telephone: (772) 567-4361; facsimile: (772) 978-6584. To review copies of this service information, go to the National Archives and Records Administration (NARA). For information on the availability of this material at NARA, go to: http://www.archives.gov/federal_register/code_of_federal_regulations/ibr_locations.html or call (202) 741-6030. To view the AD docket, go to the Docket Management Facility; U.S. Department of Transportation, 400 Seventh Street, SW., Nassif Building, Room PL-401, Washington, DC 20590-001 or on the Internet at http://dms.dot.gov. The docket number is FAA-2005-21590; Directorate Identifier 2005-CE-33-AD.

Issued in Kansas City, Missouri, on July 14, 2005.
John R. Colomy,
Acting Manager, Small Airplane Directorate, Aircraft Certification Service.

[FR Doc. 05-14389 Filed 7-25-05; 8:45 am]

BILLING CODE 4910-13-P